DEPARTMENT OF AGRICULTURE

Rural Utilities Service

Notice

AGENCY: Rural Utilities Service (RUS); United States Department of Agriculture.

ACTION: Notice.

SUMMARY: RUS published a notice in the Federal Register on February 18, 1997, at 62 FR 7205 that the Uruguay Round Agreements Act, (108 Stat. 4954, Pub. L. 103-465, December 8, 1994), amended the “Buy American” provision, (7 U.S.C. 903 note) of the Rural Electrification Act of 1936, as amended (7 U.S.C. 901 et seq.) (the “RE Act”). Under the amendment, the United States Trade Representative (USTR) is authorized to determine which countries (“eligible countries”) are eligible to have their products receive the same treatment as manufactured and unmanufactured products produced in the United States. This notice revises the list of eligible countries for purchases made by telecommunications borrowers by adding new countries to the list to reflect the March 17, 2014, Federal Register Notice (FRN), “Agreement on Government Procurement: Effective Date of Amendments, and the April 18, 2014 FRN, “Agreement on Government Procurement: Effective Date of Amendments for Japan”, published by the Office of the United States Trade Representative. Please refer to the Federal Register notice published February 18, 1997, at 62 FR 7205, for additional information on RUS Buy American requirements.

FOR FURTHER INFORMATION CONTACT: For Electric Program matters: Jon Claffey, Director, Electric Staff Division, RUS, U.S. Department of Agriculture, STOP 1569, 1400 Independence Ave. SW., Washington, DC 20250-1569. Telephone number (202) 720-1900, fax (202) 720-7491.

For Telecommunications Program matters: Norberto Esteves, Acting Director, Advanced Services Division, RUS, U.S. Department of Agriculture, STOP 1550, 1400 Independence Ave. SW., Washington, DC 20250-1598. Telephone number (202) 720-8663, fax (202) 720-4099.

SUPPLEMENTARY INFORMATION: For Telecommunications Program borrowers, eligible countries are: Canada, Chinese Taipei, European Union, Hong Kong, Iceland, Israel, Japan, Liechtenstein, Mexico, Norway, and Singapore. For Electric Program borrowers, eligible countries are: Armenia, Aruba, Australia, Austria, Bahrain, Belgium, Bulgaria, Canada, Chile, Chinese Taipei, Columbia, Costa Rica, Cyprus, Czech Republic, Denmark, Dominican Republic, El Salvador, Estonia, Finland, France, Germany, Greece, Guatemala, Honduras, Hong Kong, Hungary, Iceland, Ireland, Israel, Italy, Japan, Latvia, Liechtenstein, Lithuania, Luxembourg, Malta, Mexico, Morocco, Netherlands, Nicaragua, Norway, Oman, Panama, Peru, Poland, Portugal, Romania, Singapore, Slovak Republic, Slovenia, South Korea, Spain, Sweden, Switzerland, and United Kingdom.

For Electric and Telecommunications Programs borrowers: Eligibility of contracts with certain countries may be limited by contract amount or other restrictions. Contact RUS for additional information.

The USTR may at any time declare one or more additional countries to be “eligible countries” for either Electric or Telecommunications borrowers.

Each RUS borrower is responsible for assuring that its procurement complies with the requirements of the RE Act “Buy American” provision.

Dated: May 16, 2014.
John Padalino,
Administrator, Rural Utilities.

[FR Doc. 2014-15138 Filed 6-26-14; 8:45 am]

BILLING CODE P